DEPARTMENT OF AGRICULTURE

Forest Service

Ravalli County Resource Advisory Committee

AGENCY: Forest Service, USDA.

ACTION: Notice of meeting.

SUMMARY: The Ravalli County Resource Advisory Committee will meet in Hamilton, Montana. The purpose of the meeting is project discussion and presentations.

DATES: The meeting will be held January 22, 2013 at 6:30 p.m.

ADDRESSES: The meeting will be held at 1801 N. First Street. Written comments should be sent to Bitterroot National Forest Supervisor's Office, 1801 N. 1st, Hamilton, MT 59840. Comments may also be sent via email to jmlubke@fs.fed.us or via facsimile to 406-363-7159.

All comments, including names and addresses when provided, are placed in the record and are available for public inspection and copying. The public may inspect comments received at 1801 N. 1st, Hamilton, MT. Visitors are encouraged to call ahead to 406-363-7100 to facilitate entry into the building.

FOR FURTHER INFORMATION CONTACT: Dan Ritter, District Ranger, 406-777-7410 or Joni Lubke, RAC coordinator, 406-363-7182.

Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. Council discussion is limited to Forest Service staff and Council members. However, persons who wish to bring concerns to the attention of the Council may file written statements with the Council staff before or after the meeting. Public input sessions will be provided and individuals who made written requests by January 21, 2013 will have the opportunity to address the Council at those sessions.

Dated: January 7, 2013.
Julie K. King,
Forest Supervisor.

[FR Doc. 2013-00990 Filed 1-17-13; 8:45 am]

BILLING CODE P